DEPARTMENT OF ENERGY

Federal Energy Regulatory Commission

[Docket No. RP96-389-041]

Columbia Gulf Transmission Company; Notice of Compliance Filing

January 16, 2002.

Take notice that on January 9, 2002, Columbia Gulf Transmission Company (Columbia Gulf) tendered for filing as part of its FERC Gas Tariff, Second Revised Volume No. 1, the following tariff sheets with an effective date of January 1, 2002:

Fourth Revised Sheet No. 20

Third Revised Sheet No. 20A

Third Revised Sheet No. 20B

Columbia Gulf states that it is filing these tariff sheets to correct an inadvertent error in its January 8, 2002 filing in Docket Nos. RP96-389-031, and -032.

Columbia Gulf states further that copies of the filing has served copies of the filing on all parties identified on the official service list in Docket No. RP96-389.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-1583 Filed 1-22-02; 8:45 am]

BILLING CODE 6717-01-P